DEPARTMENT OF ENERGY

Federal Energy Regulatory Commission

[Project No. 6338-003]

Suncook Leathers, Inc.; Notice of Availability of Environmental Assessment

July 8, 2004.

In accordance with the National Environmental Policy Act of 1969 and the Federal Energy Regulatory Commission's (Commission) regulations, 18 CFR part 380 (Order No. 486, 52 FR 47897), the Office of Energy Projects' staff has prepared an Environmental Assessment (EA) for an application for surrender of exemption for the Pittsfield Project. The Pittsfield Project, FERC No. 6338, is located on the Suncook River in Merrimack County, New Hampshire.

The EA contains the staff's analysis of the potential environmental impacts of the proposal and concludes that approval of the proposal would not constitute a major Federal action significantly affecting the quality of the human environment.

A copy of the EA is available for review at the Commission in the Public Reference Room, or it may be viewed on the Commission's Web site at http://www.ferc.gov using the “e-library” link. Enter the docket number (prefaced by P-) and excluding the last three digits, in the docket number field to access the document. For assistance, contact FERC Online Support at FERCOnlineSupport@ferc.gov. or toll-free at (866) 208-3676, or for TTY, (202) 502-8659.

For further information, contact Rebecca Martin at 202-502-6012.

Magalie R. Salas,
Secretary.

[FR Doc. E4-1534 Filed 7-13-04; 8:45 am]

BILLING CODE 6717-01-P